DEPARTMENT OF ENERGY

Federal Energy Regulatory Commission

Notice of Effectiveness of Exempt Wholesale Generator Status

| Docket Nos.
Fire Island Wind, LLC | EG12-9-000
Kaheawa Wind Power II, LLC | EG12-12-000
Broken Bow Wind, LLC | EG12-13-000
Crofton Bluffs Wind, LLC | EG12-14-000
NRG Texas Power LLC | EG12-15-000
Le Plateau Wind Power L.P | FC12-1-000
Wind Invest Sp. z.o.o. | FC12-2-000
Dobieslaw Wind Invest z.o.o. | FC12-3-000
Jezycki Wind Invest Sp. z.o.o | FC12-4-000

Take notice that during the month of January 2012, the status of the above-captioned entities as Exempt Wholesale Generators or Foreign Utility Companies became effective by operation of the Commission's regulations. 18 CFR 366.7(a).

Dated: February 9, 2012.
Kimberly D. Bose,
Secretary.

[FR Doc. 2012-3654 Filed 2-15-12; 8:45 am]

BILLING CODE 6717-01-P